FEDERAL MARITIME COMMISSION

Security for the Protection of the Public Indemnification of Passenger for Nonperformance of Transportation; Notice of Issuance of Certificate (Performance)

Notice is hereby given that the following have been issued a Certificate of Financial Responsibility for Indemnification of Passengers for Nonperformance of Transportation pursuant to the provisions of section 3, Public Law 89-777 (46 App. U.S.C. 817 (e)) and the Federal Maritime Commission's implementing regulations at 46 CFR part 540, as amended:

Costa Crociere S.p.A. and Costa Cruise Lines N.V., Venture Corporate Center II, 200 South Park Road, Suite 200, Hollywood, FL 33021-8541. Vessel: COSTA MAGICA.

NCL (Bahamas) Ltd. d/b/a NCL, 7665 Corporate Center Drive, Miami, FL 33126. Vessel: NORWEGIAN JEWEL, PRIDE OF AMERICA.

Princess Cruise Lines, Ltd. and Carnival PLC, 24305 Town Center Drive, Santa Clarita, CA 91355. Vessel: CROWN PRINCESS, TAHITIAN PRINCESS, SEA PRINCESS.

Royal Caribbean Cruises Ltd. (d/b/a Royal Caribbean International), 1050 Caribbean Way, Miami, FL 33132-2096. Vessel: FREEDOM OF THE SEAS.

Dated: September 30, 2005.
Bryant L. VanBrakle,
Secretary.

[FR Doc. 05-20011 Filed 10-4-05; 8:45 am]

BILLING CODE 6730-01-P